DEPARTMENT OF ENERGY

Federal Energy Regulatory Commission

[Project No. 13843-000]

FFP Qualified Hydro 24, LLC; Notice of Preliminary Permit Application Accepted for Filing and Soliciting Comments, Motions To Intervene, and Competing Applications

On September 28, 2010, FFP Qualified Hydro 24, LLC filed an application for a preliminary permit, pursuant to section 4(f) of the Federal Power Act (FPA), proposing to study the feasibility of the Cle Elum Dam Hydroelectric Project (project) to be located at the U.S. Bureau of Reclamation's Cle Elum dam on the Cle Elum River, near Cle Elum in Kittitas County, Washington. The sole purpose of a preliminary permit, if issued, is to grant the permit holder priority to file a license application during the permit term. A preliminary permit does not authorize the permit holder to perform any land-disturbing activities or otherwise enter upon lands or waters owned by others without the owners' express permission.

The proposed project would utilize the Cle Elum dam and would consist of the following: (1) A new 1,000-foot-long, 12-foot-wide steel liner penstock; (2) a new 70-foot-long, 100-foot-wide reinforced concrete powerhouse with turbine/generating units with an installed capacity of 18 megawatts; (3) a new 15-megawatt substation adjacent to the powerhouse; (4) a new 0.75-mile-long, 34.5-kilovolt overhead transmission line; and (5) appurtenant facilities. The estimated annual generation of the project would be 40 gigawatt-hours.

Applicant Contact: Ms. Ramya Swaminathan, 33 Commercial Street, Gloucester, Massachusetts 01930; phone: (978) 226-1531.

FERC Contact: Kelly Wolcott; phone: (202) 502-6480.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13843-000) in the docket number field to access the document. For assistance, contact FERC Online Support.

Dated: April 8, 2011.
Kimberly D. Bose,
Secretary.

[FR Doc. 2011-9071 Filed 4-13-11; 8:45 am]

BILLING CODE 6717-01-P